DEPARTMENT OF HOUSING AND URBAN DEVELOPMENT

[Docket No. FR-7007-N-01]

60-Day Notice of Proposed Information Collection: Rent Reform Demonstration: 36-Month Follow-Up Survey and Comprehensive Impact Analysis

AGENCY: Office of Policy Development and Research, HUD.

ACTION: Notice.

SUMMARY: The Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: March 26, 2018.

ADDRESSES: Interested persons are invited to submit comments regarding this proposal. Comments should refer to the proposal by name and/or OMB Control Number and should be sent to: Anna P. Guido, Reports Management Officer, QDAM, Department of Housing and Urban Development, 451 7th Street, SW, Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410-5000; email Anna P. Guido at Anna.P.Guido@hud.gov or telephone (202) 402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Rent Reform Demonstration: 36-Month Follow-Up Survey and Comprehensive Impact Analysis.

OMB Approval Number: 2528-0306.

Type of Request: Revision.

Agency Form Numbers: No agency forms will be used.

Description of the need for the information and proposed use: The U.S. Department of Housing and Urban Development (HUD) is conducting the Rent Reform Demonstration under contract with MDRC and its subcontractors (The Bronner Group, Quadel Consulting Corporation, and the Urban Institute). The 36-month follow-up survey will be conducted by a survey contractor. The project is a random assignment trial of an alternative rent system. In 2015 and 2016, 6,660 families were randomly assigned to either participate in the new/alternative rent system or to continue in the current system. For voucher holders, outcomes of the alternative system are hypothesized to be increases in earnings, employment and job retention, among others. Random assignment limits the extent to which selection bias drives observed results. The demonstration will document the progress of a group of housing voucher holders, who were drawn from current residents at the four Moving to Work (MTW) Demonstration public housing agencies (PHAs) that are participating in the Rent Reform Demonstration:

(1) Lexington Housing Authority (LHA), Lexington, Kentucky;

(2) Louisville Metro Housing Authority (LMHA), Louisville, Kentucky;

(3) San Antonio Housing Authority (SAHA), San Antonio, Texas; and

(4) District of Columbia Housing Authority (DCHA), Washington, DC.

The impact evaluation's intent is to gain an understanding of the impact of the alternative rent system on the families as well as the administrative burden on Public Housing Agencies (PHAs). Data collection will include the families that are part of the treatment and control groups, as well as PHA staff. Data for this evaluation will be gathered through a variety of methods including informational interviews, direct observation, surveys, and analysis of administrative records. The work covered under this information request is for the 36-month follow-up survey that will document and contextualize administrative data findings related to employment, earnings, and hardship and study participants' experience with the demonstration.

Respondents: 6,660.

This includes:

• Families with housing vouchers, remaining in the current rent system (control group): up to 3,350.

• Families with housing vouchers, enrolled in the alternative rent system (treatment group): up to 3,310.

Estimated total number of hours needed to prepare the information collection including number of respondents, frequency of response, hours of response, and cost of response time: Based on the assumptions and table below, we calculate the annual burden hours for the study to be 4,462.20 hours and the annual cost to be $40,338.29. For the study consent form and the 36-month follow-up survey, we averaged the median hourly minimum wage across the 4 study sites: 1,904 enrolled participants, which is 28.59 percent of the study sample, in Washington, DC at $13.50 per hour expected in Q3 2018 (28.59 percent x $13.50 = $3.86), and 4,756 enrolled participants, which is 71.41 percent of the study sample, in the remaining sites at $7.25 per hour in Kentucky and Texas (71.41 percent x $7.25 = $5.18) produces a weighted average of the hourly wage rates equal to $9.04.

All assumptions are reflected in the table below.

Information collection | Number of respondents | Frequency of response | Burden hour per response | Annual burden hours | Hourly cost per response | Total cost
Consent Forms | 6,660 | 1 | Up to 10 minutes (or 0.17 hours) | 1,132.2 hours (6,660 *0.17) | $9.04 ¹ | $10,235.09 (6,660* $9.04 * 0.17 hours)
Baseline Information | 6,660 | 1 | 30 minutes, on average (or 0.50 hours) | 3,330 hours (6,660 *0.50) | 9.04 | $30,103.20 (6,660 *$9.04 * 0.50 hours)
Total | 6,660 |  |  | 4,462.20 |  | $40,338,29
¹ We have estimated the hourly wage at the expected prevailing minimum wage, which is $7.25 per hour in Kentucky and Texas and is the same as the federal minimum wage rate. (Source: U.S. Department of Labor, https://www.dol.gov/whd/minwage/america.htm). The hourly minimum wage in the District of Columbia is expected to be $13.50 by Q3 of 2018. (Source: District of Columbia Department of Employ-ment Services, http://does.dc.gov/sites/default/files/dc/sites/does/page_content/attachments/DC%20Minimum%20Wage%20Increase%20-%20DC%20Register%20Public%20Notice.pdf). Accordingly, we assume an hourly rate across all sites of $9.04 that represents an average of these two rates, weighted by the enrolled sample at each site. (1,904 enrolled participants in Washington, DC and 4,756 enrolled in the remaining sites).

B. Solicitation of Public Comment

This notice solicits comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses.

HUD encourages interested parties to submit comment in response to these questions.

Authority: Section 3507 of the Paperwork Reduction Act of 1995, 44 U.S.C. Chapter 35.

Dated: January 9, 2018.
Todd M. Richardson,
Acting General Deputy Assistant Secretary for Policy Development and Research.

[FR Doc. 2018-01160 Filed 1-22-18; 8:45 am]

BILLING CODE 4210-67-P